DEPARTMENT OF THE INTERIOR

National Park Service

Continuation of Visitor Services

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

CONCID# | Concessioner name | Park
CABR001 | Cabrillo Historical Association (Cabrillo National Monument Foundation | Cabrillo NM.
DEVA001 | Scotty's Castle | Death Valley NP.
DEVA002 | Stovepipe Wells | Death Valley NP.
GOGA001 | Blue and Gold Fleet, L.P. | Golden Gate NRA.
GOGA007 | Golden Gate National Park Assn. | Golden Gate NRA.
GOGA008 | Louis' Restaurant | Golden Gate NRA.
LACH003 | Lake Chelan Recreation, Inc. (North Cascades Stehekin Lodge) | Lake Chelan NRA.
LAME001 | Cottonwood Cove Resort | Lake Mead NRA.
LAME003 | Lake Mead Resort | Lake Mead NRA.
LAME005 | Calville Bay Resort | Lake Mead NRA.
LAME006 | Las Vegas Boat Harbor | Lake Mead NRA.
LAME007 | Lake Mohave Resort | Lake Mead NRA.
LAME008 | Overton Beach Marina | Lake Mead NRA.
LAME010 | Echo Bay Resort | Lake Mead NRA.
MORA001 | Rainier Mountaineering, Inc. | Mount Rainier NP
MORA004 | John P. Squires | Mount Rainier NP
MUWO001 | Aramark Leisure Services | Muir Woods NM.
OLYM001 | ARAMARK Sports and Entertainment Services, Inc. (Kalaloch Lodge, Inc.) | Olympic NP.
OLYM005 | Crescent West | Olympic NP.
ROLA003 | Ross Lake Resort | Ross Lake NRA.
WHIS001 | Oak Bottom Marina | Whiskeytown NRA.

EFFECTIVE DATE: January 2, 2005.

FOR FURTHER INFORMATION CONTACT: Jo A. Pendry, Concession Program Manager, National Park Service, Washington, DC, 20240 Telephone, 202/513-7156.

Dated: December 30, 2004.
Alfred J. Poole, III,
Acting Associate Director, Administration, Business Practices and Workforce Development.

[FR Doc. 05-3332 Filed 2-18-05; 8:45 am]

BILLING CODE 4312-53-M